DEPARTMENT OF TRANSPORTATION

Federal Aviation Administration

14 CFR Part 39

[Docket No. FAA-2015-3883; Directorate Identifier 2014-SW-029-AD]

RIN 2120-AA64

Airworthiness Directives; Airbus Helicopters

AGENCY: Federal Aviation Administration (FAA), DOT.

ACTION: Notice of proposed rulemaking (NPRM).

SUMMARY: We propose to adopt a new airworthiness directive (AD) for certain Airbus Helicopters Model AS332L2 and EC225LP helicopters. This proposed AD would require installing a cut-out for the left-hand (LH) and right-hand (RH) rail support junction profiles and inspecting splices, frame 5295, and related equipment for a crack. This proposed AD is prompted by reports of cracks on frame 5295 and on splices installed to prevent those cracks. The proposed actions are intended to detect a crack in frame 5295, which could lead to loss of the helicopter frame's structural integrity and consequently, loss of helicopter control.

DATES: We must receive comments on this proposed AD by March 7, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-3883 or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed rule, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, Texas 76177.

FOR FURTHER INFORMATION CONTACT: Gary Roach, Aviation Safety Engineer, Regulations and Policy Group, Rotorcraft Directorate, FAA, 10101 Hillwood Pkwy., Fort Worth, Texas 76177; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, issued AD No. 2014-0098-E, dated April 25, 2014, to correct an unsafe condition for AS332L2 and EC225LP helicopters. EASA AD No. 2014-0098-E applies to helicopters with a frame 5295 that have been reinforced by installing aluminium splices on the RH and LH fuselage external skins. EASA advises of a report of a crack detected on the reinforced frame during a scheduled inspection of a helicopter. According to EASA, the crack initiated on a splice in an area hidden by the overlapping junction profile of the cabin sliding door rail support, and then spread to the frame.

EASA states that a crack in frame 5295, if not detected and corrected, could lead to loss of structural integrity of the helicopter frame and subsequent loss of control of the helicopter. To address this condition, EASA issued AD No. 2014-0098-E to require repetitive inspections of the splices for a crack, as well as cutting out the rail support junction profiles to provide a convenient access to identify cracks in a splice.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information Under 1 CFR Part 51

We reviewed Airbus Helicopters Alert Service Bulletin (ASB) No. EC225-05A038 for Model EC225LP helicopters and ASB No. AS332-05.00.97 for Model AS332L2 helicopters. The ASBs, both Revision 0 and both dated April 15, 2014, report cracks were found in the splice and frame 5295 on a Model AS332L2 helicopter during a major inspection. The splice had been added in compliance with Modification 0726517. Had an optional rail support cut-out been accomplished on the aircraft to allow for a visual check of the splice for frame 5295, it would have revealed the crack in the splice, prompting its repair and consequently limiting the damage to frame 5295. As a result, the ASBs call for the rail support cut-out on the RH and LH side of the frame as well as periodic visual inspections of frame 5295 and related equipment. This service information is reasonably available because the interested parties have access to it through their normal course of business or by the means identified in the ADDRESSES section.

Other Related Service Information

We reviewed Airbus Service Bulletin (SB) No. 53-003, Revision No. 4, for Model EC225LP helicopters and SB No. 53.01.52, Revision 5, for Model AS332L2 helicopters, both dated July 23, 2010. The SBs specify procedures to reinforce frame 5295 by installing a new titanium plate underneath the fitting and a new widened aluminum splice below the upper corner of the door. We also reviewed Airbus Helicopters Service Bulletin No. 05-019, Revision 4, dated September 22, 2014, for Model EC225LP helicopters, which proposes that you cut out the junction profiles to perform periodic visual inspections.

Proposed AD Requirements

This proposed AD would require the following before a splice reaches 1,700 hours time-in-service (TIS), within 50 hours TIS, or before the helicopter reaches 11,950 hours TIS, whichever occurs later:

• Installing the rail support cut-out and identifying the right-hand and left-hand junction profile.

• Inspecting each splice for a crack, and repairing or replacing the splice if there is a crack.

This proposed AD would then require, at intervals not to exceed 110 hours TIS, inspecting each splice for a crack, and repairing or replacing the splice if there is a crack.

Differences Between This Proposed AD and the EASA AD

The EASA AD requires contacting Airbus Helicopters if there is a crack in the affected parts. This proposed AD would make no such requirement.

The EASA AD sets various timelines for the repair or replacement of affected parts if a crack exists. This proposed AD would require the repair or replacement of affected parts before further flight if a crack exists.

Costs of Compliance

We estimate that this proposed AD would affect 4 helicopters of U.S. Registry and that labor costs average $85 a work-hour. Based on these estimates, we expect the following costs:

Installing the cut-outs on frame 5295 would require 40 work hours for a labor cost of $3,400. Parts would cost $5,000 for total cost per helicopter of $8,400 and $33,600 for the U.S. fleet.

Inspecting helicopter frame 5295 would require 2 work-hours for a labor cost of $170 per helicopter. No parts would be needed for a total U.S. fleet cost of $680 per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2015-3883; Directorate Identifier 2014-SW-029-AD.

(a) Applicability

This AD applies to Model AS332L2 and Model EC225LP helicopters with an extended aluminum splice installed on frame 5295, certificated in any category.

Note 1 to paragraph (a) of this AD: Helicopters with modification (MOD) 0726517 have an extended aluminum splice installed.

(b) Unsafe Condition

This AD defines the unsafe condition as a crack on helicopter frame 5295. This condition could result in structural failure of the frame and subsequent loss of control of the helicopter.

(c) Comments Due Date

We must receive comments by March 7, 2016.

(d) Compliance

You are responsible for performing each action required by this AD within the specified compliance time unless it has already been accomplished prior to that time.

(e) Required Actions

(1) Before a splice reaches 1,700 hours time-in-service (TIS), within 50 hours TIS, or before the helicopter reaches 11,950 hours TIS, whichever occurs later, do the following:

(i) Install the rail support cut-out and identify the right-hand and left-hand junction profile in accordance with the Accomplishment Instructions, paragraph 3.B.2, of Alert Service Bulletin (ASB) No. EC225-05A038, Revision 0, dated April 15, 2014 (ASB EC225-05A038), or ASB No. AS332-05.00.97, Revision 0, dated April 15, 2014 (ASB AS332-05.00.97), whichever is applicable to your helicopter.

(ii) Inspect each splice for a crack in the area depicted as Area Y in Figure 3 of ASB EC225-05A038 or ASB AS332-05.00.97, whichever is applicable to your helicopter. If a crack exists, repair or replace the splice before further flight.

(2) Thereafter at intervals not to exceed 110 hours TIS, inspect each splice for a crack in the area depicted as Area Y in Figure 3 of ASB EC225-05A038 or ASB AS332-05.00.97. If a crack exists, repair or replace the splice before further flight.

(f) Credit for Actions Previously Completed

Installing rail support cut-outs in accordance with MOD 0728090 or Airbus Helicopters Service Bulletin No. 05-019, Revision 4, dated September 22, 2014, before the effective date of this AD is considered acceptable for compliance with the corresponding actions specified in paragraph (e)(1)(i) of this AD.

(g) Alternative Methods of Compliance (AMOCs)

(1) The Manager, Safety Management Group, FAA, may approve AMOCs for this AD. Send your proposal to: Gary Roach, Aviation Safety Engineer, Regulations and Policy Group, Rotorcraft Directorate, FAA, 10101 Hillwood Pkwy., Fort Worth, Texas 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Airbus Helicopters Service Bulletin (SB) No. 05-019, Revision 4, dated September 22, 2014, and SB No. 53-003 and SB No. 53.01.52, both Revision 4 and both dated July 12, 2010, which are not incorporated by reference, contain additional information about the subject of this AD. For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177.

(2) The subject of this AD is addressed in the European Aviation Safety Agency (EASA) AD No. 2014-0098-E, dated April 25, 2014. You may view the EASA AD on the Internet at http://www.regulations.gov in the AD Docket.

(i) Subject

Joint Aircraft Service Component (JASC) Code: 5310, Fuselage Main, Structure.

Issued in Fort Worth, Texas, on December 22, 2015.
Lance T. Gant,
Manager, Rotorcraft Directorate, Aircraft Certification Service.

[FR Doc. 2015-33014 Filed 1-4-16; 8:45 am]

BILLING CODE 4910-13-P